NATIONAL ENDOWMENT FOR THE ARTS

45 CFR Part 1157

RIN 3135-AA31

Uniform Administrative Requirements, Cost Principles, and Audit Requirements for Federal Awards

ACTION: Final rule.

SUMMARY: The National Endowment for the Arts (“NEA”) finalizes its portion of the uniform federal assistance rule published by the Office of Management and Budget.

DATES: This rule is effective on June 29, 2015.

FOR FURTHER INFORMATION CONTACT: Aswathi Zachariah, Office of the General Counsel, National Endowment for the Arts, 400 7th Street SW., Washington, DC 20506, Telephone: 202-682-5418.

SUPPLEMENTARY INFORMATION: On December 12, 2014, the Office of Information and Regulatory Affairs (OIRA) of the Office of Management and Budget published an interim final rule that provided comprehensive modifications to the principles and requirements for federal awards. 79 FR 75871. The uniform rules were published as 2 CFR part 200. As part of that rulemaking, the National Endowment for the Arts adopted part 200, along with an agency-specific addendum in a new part 3255.

The NEA received no relevant comments in response to the rule. Therefore, 2 CFR part 3255, as described in the interim final rule, is adopted with no changes.

Regulatory Findings

For the regulatory findings regarding this rulemaking, please refer to the analysis prepared by OIRA in the interim final rule, which is incorporated herein. 79 FR at 75876.

Dated: June 18, 2015.
Kathy N. Daum,
Director, Office of Administrative Services.

[FR Doc. 2015-15736 Filed 6-26-15; 8:45 am]

BILLING CODE 7537-01-P